DEPARTMENT OF AGRICULTURE

Natural Resources Conservation Service

TE-34 Penchant Basin Natural Resources Plan; Terrebonne Parish, LA

AGENCY: Natural Resources Conservation Service, Department of Agriculture.

ACTION: Notice of Finding of No Significant Impact.

SUMMARY: Pursuant to Section 102 (2) (C) of the National Environmental Policy Act of 1969; the Council on Environmental Quality Guidelines (40 CFR Part 1500); and the Natural Resources Conservation Service Guidelines (7 CFR Part 650); the Natural Resources Conservation Service, U.S. Department of Agriculture, gives notice that an environmental impact statement is not being prepared for the Penchant Basin Natural Resources Plan (TE-34), Terrebonne Parish, Louisiana.

FOR FURTHER INFORMATION CONTACT: Kevin D. Norton, State Conservationist, Natural Resources Conservation Service, 3737 Government Street, Alexandria, Louisiana 71302; telephone (318) 473-7751.

SUPPLEMENTARY INFORMATION: The environmental assessment of the federally assisted action indicates that the project will not cause significant local, regional, or national impacts on the environment. As a result of these findings, Kevin D. Norton, State Conservationist, has determined that preparation and review of an environmental impact statement is not needed for this project.

The project is expected to creation, protect, and/or restore 675 net acres of emergent marsh over 20 years. The proposed project consists of installing approximately 6,520 feet of foreshore rock dike along the southern bank of Bayou Chene at its intersection with Bayou Penchant, creating 35 acres of marsh along the southern bank of Bayou Chene at its intersection with Bayou Penchant, installing 10-48″corrugated metal pipe with flap gates in Superior Canal at the Mauvais Bois ridge, installing one steel sheetpile weir with a 10 ft. wide boat bay and six flap gated openings at Brady Canal, installing approximately 12,000 feet of bankline maintenance on the north bank of Bayou Decade from Lake Decade to Turtle Bayou, installing approximately 14,000 feet of earthen embankment on the north bank of Bayou Decade from Voss Canal to Lost Lake, and two sheetpile weirs with 10 ft. wide boat bays along the north bank of Bayou Decade.

The Notice of Finding of No Significant Impact (FONSI) has been forwarded to the Environmental Protection Agency and to various federal, state, and local agencies and interested parties. A limited number of copies of the FONSI are available to fill single copy requests at the above address. Basic data collected during the environmental assessment are on file and may be reviewed by contacting Kevin D. Norton.

No administrative action on implementation of the proposal will be taken until 30 days after the date of this publication in the Federal Register.

Kevin D. Norton,
State Conservationist.

[FR Doc. E8-14232 Filed 6-23-08; 8:45 am]

BILLING CODE 3410-16-P